DEPARTMENT OF HOMELAND SECURITY

Federal Emergency Management Agency

[Docket ID FEMA-2012-0003]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama:
Escambia (FEMA Docket No.: B-1257) | City of Atmore (12-04-2355P) | The Honorable Howard Shell, Mayor, City of Atmore, City Hall, 201 East Louisville Avenue, Atmore, AL 36502 | City Hall, 201 East Louisville Avenue, Atmore, AL 36502 | July 12, 2012 | 010071
Escambia (FEMA Docket No.: B-1257) | Unincorporated areas of Escambia County, (12-04-2355P) | The Honorable David M. Stokes, Chairman, Escambia County Board of Commissioners, P.O. Box 848, Brewton, AL 36427 | County Commission, 314 Belleville Avenue, Brewton, AL 36426 | July 12, 2012 | 010251
Houston (FEMA Docket No.: B-1257) | City of Dothan (12-04-2178P) | The Honorable Mike Schmitz, Mayor, City of Dothan, P.O. Box 2128, Dothan, AL 36302 | Public Works Department, Engineering Services Division, 126 North St. Andrews Street, Room 309, Dothan, AL 36303 | July 23, 2012 | 010104
Arizona:
Maricopa (FEMA Docket No.: B-1257) | City of Phoenix, (12-09-0112P) | The Honorable Greg Stanton, Mayor, City of Phoenix, 200 West Washington Street, 11th Floor, Phoenix, AZ 85003 | Street Transportation Department, 200 West Washington Street, 5th Floor, Phoenix, AZ 85003 | July 13, 2012 | 040051
Maricopa (FEMA Docket No.: B-1257) | Unincorporated areas of Maricopa County, (12-09-0273P) | The Honorable Max W. Wilson, Chairman, Maricopa County Board of Supervisors, 301 West Jefferson Street, 10th Floor, Phoenix, AZ 85003 | Maricopa County Flood Control District, 2801 West Durango Street, Phoenix, AZ 85009 | July 13, 2012 | 040037
Maricopa (FEMA Docket No.: B-1257) | Unincorporated areas of Maricopa County, (12-09-0405P) | The Honorable Max W. Wilson, Chairman, Maricopa County Board of Supervisors, 301 West Jefferson Street, 10th Floor, Phoenix, AZ 85003 | Maricopa County Flood Control District, 2801 West Durango Street, Phoenix, AZ 85009 | July 13, 2012 | 040037
Mojave (FEMA Docket No.: B-1257) | City of Lake Havasu City, (12-09-0013P) | The Honorable Mark Nexsen, Mayor, City of Lake Havasu City, 2330 McCulloch Boulevard North, Lake Havasu City, AZ 86403 | 2330 McCulloch Boulevard North, Lake Havasu City, AZ 86403 | July 16, 2012 | 040116
California:
Los Angeles (FEMA Docket No.: B-1257) | Unincorporated areas of Los Angeles County (12-09-0692P) | The Honorable Zev Yaroslavsky, Chairman, Los Angeles County Board of Supervisors, 500 West Temple Street, Room 856, Los Angeles, CA 90012 | Department of Public Works, 900 South Fremont Avenue, Alhambra, CA 91803 | July 23, 2012 | 065043
Orange (FEMA Docket No.: B-1257) | City of Brea (12-09-0415P) | The Honorable Don Schweitzer, Mayor, City of Brea, 1 Civic Center Circle, Brea, CA 92821 | Civic and Cultural Center, 1 Civic Center Circle, Brea, CA 92821 | July 16, 2012 | 060214
San Diego (FEMA Docket No.: B-1257) | City of San Diego (12-09-0330P) | The Honorable Jerry Sanders, Mayor, City of San Diego, 202 C Street, 11th Floor, San Diego, CA 92101 | Executive Complex, 1010 2nd Avenue, Suite 1100, San Diego, CA 92101 | July 20, 2012 | 060295
San Mateo (FEMA Docket No.: B-1257) | City of Redwood City (12-09-0320P) | The Honorable Alicia Aguirre, Mayor, City of Redwood City, P.O. Box 391, Redwood City, CA 94064 | City Hall, 1017 Middlefield Road, Redwood City, CA 94064 | July 16, 2012 | 060325
Ventura (FEMA Docket No.: B-1257) | City of Oxnard (12-09-1132P) | The Honorable Thomas E. Holden, OD, Mayor, City of Oxnard, 305 West 3rd Street, Oxnard, CA 93030 | Planning Department, 214 South C Street, Oxnard, CA 93030 | August 6, 2012 | 060417
Colorado:
Douglas (FEMA Docket No.: B-1257) | Town of Parker (12-08-0154P) | The Honorable David Casiano, Mayor, Town of Parker, 20120 East Main Street, Parker, CO 80138 | Public Works Department, 20120 East Main Street, Parker, CO 80138 | July 13, 2012 | 080310
Jefferson (FEMA Docket No.: B-1257) | Unincorporated areas of Jefferson County (12-08-0141P) | The Honorable Donald Rosier, Chairman, Jefferson County Board of Commissioners, 100 Jefferson County Parkway, Golden, CO 80419 | Department of Planning and Zoning, 100 Jefferson County Parkway, Suite 3, Golden, CO 80419 | July 13, 2012 | 080087
Florida:
Broward (FEMA Docket No.: B-1257) | City of Hollywood (12-04-0393P) | The Honorable Peter J. M. Bober, Mayor, City of Hollywood, 2600 Hollywood Boulevard, Hollywood, FL 33022 | City Hall, 2600 Hollywood Boulevard, Hollywood, FL 33022 | July 9, 2012 | 125113
Broward (FEMA Docket No.: B-1257) | Town of Lauderdale-by-the-Sea (12-04-0897P) | The Honorable Roseann Minnet, Mayor, Town of Lauderdale-by-the-Sea, 4501 Ocean Drive, Lauderdale-by-the-Sea, FL 33308 | City Hall 4501 Ocean Drive, Lauderdale-by-the-Sea, FL 33308 | July 13, 2012 | 125123
Kentucky:
Fayette (FEMA Docket No.: B-1257) | Lexington-Fayette Urban County Government KY (12-04-2199P) | The Honorable Jim Gray, Mayor, Lexington-Fayette Urban County Government, 200 East Main Street, Lexington, KY 40507 | Division of Planning, Current Planning Section, 101 East Vine Street, Lexington, KY 40507 | August 6, 2012 | 210067
New York:
Orange (FEMA Docket No.: B-1257) | Village of Goshen (11-02-1056P) | The Honorable Kyle P. Roddey, Mayor, Village of Goshen, Village Hall, 276 Main Street, Goshen, NY 10924 | Village Hall, 276 Main Street, Goshen, NY 10924 | September 13, 2012 | 361571
New York: Westchester (FEMA Docket No.: B-1257) | City of Yonkers (10-02-2170P) | The Honorable Philip A. Amicone, Mayor, City of Yonkers, 40 South Broadway, Yonkers, NY 10701 | 40 South Broadway, Yonkers, NY 10701 | June 29, 2012 | 360936
South Carolina:
Jasper (FEMA Docket No.: B-1257) | Town of Hardeeville (11-04-8141P) | The Honorable Bronco Bostick, Mayor, Town of Hardeeville, 205 East Main Street, Hardeeville, SC 29927 | City Hall, 205 East Main Street, Hardeeville, SC 29927 | July 26, 2012 | 450113
Jasper (FEMA Docket No.: B-1257) | Unincorporated areas of Jasper County (11-04-8141P) | The Honorable Reverend Samuel Gregory, Chairman, Jasper County Council, P.O. Box 1149, Ridgeland, SC 29936 | Planning & Zoning Department, 358 3rd Avenue, Ridgeland, SC 29936 | July 26, 2012 | 450112
Richland (FEMA Docket No.: B-1257) | Unincorporated areas of Richland County (11-04-6309P) | The Honorable Kelvin E. Washington, Sr., Chairman, Richland County Council, 2020 Hampton Street, Columbia, SC 29202 | Richland County Courthouse, 1701 Main Street, Columbia, SC 29202 | July 2, 2012 | 450170
Tennessee:
Williamson (FEMA Docket No.: B-1257) | Unincorporated areas of Williamson County (11-04-4928P) | The Honorable Rogers Anderson, Mayor, Williamson County, 1320 West Main Street, Suite 125, Franklin, TN 37064 | Planning Department, 1320 West Main Street, Suite 400, Franklin, TN 37064 | July 9, 2012 | 470204

(Catalog of Federal Domestic Assistance No. 97.022, “Flood Insurance.”)

James A. Walke,
Acting Deputy Associate Administrator for Mitigation, Department of Homeland Security, Federal Emergency Management Agency.

[FR Doc. 2012-31387 Filed 12-28-12; 8:45 am]

BILLING CODE 9110-12-P